DEPARTMENT OF ENERGY

Federal Energy Regulatory Commission

Combined Notice of Filings

Take notice that the Commission has received the following Natural Gas Pipeline Rate and Refund Report filings:

Filings Instituting Proceedings

Docket Numbers: RP15-904-000.

Applicants: Gas Transmission Northwest LLC.

Description: Petition of Gas Transmission Northwest LLC for Approval of Stipulation and Agreement of Settlement.

Filed Date: 4/23/15.

Accession Number: 20150423-5271.

Comments Due: 5 p.m. ET 5/5/15.

Docket Numbers: RP15-929-000.

Applicants: Equitrans, L.P.

Description: Section 4(d) rate filing per 154.204: Negotiated Rate Service Agreement—Mountaineer Keystone LLC to be effective 5/1/2015.

Filed Date: 4/30/15.

Accession Number: 20150430-5059.

Comments Due: 5 p.m. ET 5/12/15.

Docket Numbers: RP15-930-000.

Applicants: TC Offshore LLC.

Description: Section 4(d) rate filing per 154.403: Cashout 2015 to be effective 6/1/2015.

Filed Date: 4/30/15.

Accession Number: 20150430-5067.

Comments Due: 5 p.m. ET 5/12/15.

Docket Numbers: RP15-931-000.

Applicants: ANR Pipeline Company.

Description: Section 4(d) rate filing per 154.403: Cashout 2015 to be effective 6/1/2015.

Filed Date: 4/30/15.

Accession Number: 20150430-5070.

Comments Due: 5 p.m. ET 5/12/15.

Docket Numbers: RP15-932-000.

Applicants: Florida Gas Transmission Company, LLC.

Description: Section 4(d) rate filing per 154.204: Exhibit B Update—Contract 117453 to be effective 5/1/2015.

Filed Date: 4/30/15.

Accession Number: 20150430-5082.

Comments Due: 5 p.m. ET 5/12/15.

Docket Numbers: RP15-933-000.

Applicants: ETC Tiger Pipeline, LLC.

Description: Section 4(d) rate filing per 154.403: Fuel Filing on 4-30-15 to be effective 6/1/2015.

Filed Date: 4/30/15.

Accession Number: 20150430-5083.

Comments Due: 5 p.m. ET 5/12/15.

Docket Numbers: RP15-934-000.

Applicants: Fayetteville Express Pipeline LLC.

Description: Section 4(d) rate filing per 154.403: Fuel Filing on 4-30-15 to be effective 6/1/2015.

Filed Date: 4/30/15.

Accession Number: 20150430-5084.

Comments Due: 5 p.m. ET 5/12/15.

Docket Numbers: RP15-935-000.

Applicants: Kinder Morgan Louisiana Pipeline LLC.

Description: Section 4(d) rate filing per 154.204: Filing to Substitute Published Index Prices to be effective 6/1/2015.

Filed Date: 4/30/15.

Accession Number: 20150430-5155.

Comments Due: 5 p.m. ET 5/12/15.

Docket Numbers: RP15-936-000.

Applicants: Alliance Pipeline L.P.

Description: Section 4(d) rate filing per 154.204: May 1—31 2015 Auction to be effective 5/1/2015.

Filed Date: 4/30/15.

Accession Number: 20150430-5193.

Comments Due: 5 p.m. ET 5/12/15.

Docket Numbers: RP15-937-000.

Applicants: Northern Natural Gas Company.

Description: Section 4(d) rate filing per 154.403: 20150501 Winter PRA Fuel Rates to be effective 11/1/2015.

Filed Date: 4/30/15.

Accession Number: 20150430-5195.

Comments Due: 5 p.m. ET 5/12/15.

Docket Numbers: RP15-938-000.

Applicants: Cheyenne Plains Gas Pipeline Company, L.

Description: Section 4(d) rate filing per 154.403(d)(2): FL&U to be effective June 1, 2015 to be effective 6/1/2015.

Filed Date: 4/30/15.

Accession Number: 20150430-5204.

Comments Due: 5 p.m. ET 5/12/15.

Docket Numbers: RP15-939-000.

Applicants: Wyoming Interstate Company, L.L.C.

Description: Section 4(d) rate filing per 154.403(d)(2): FL&U to be effective June 1, 2015 to be effective 6/1/2015.

Filed Date: 4/30/15.

Accession Number: 20150430-5213.

Comments Due: 5 p.m. ET 5/12/15.

Docket Numbers: RP15-940-000.

Applicants: El Paso Natural Gas Company, L.L.C.

Description: Section 4(d) rate filing per 154.601: Negotiated Rate (EP Marketing) to be effective 6/1/2015.

Filed Date: 4/30/15.

Accession Number: 20150430-5273.

Comments Due: 5 p.m. ET 5/12/15.

Docket Numbers: RP15-941-000.

Applicants: Discovery Gas Transmission LLC.

Description: Section 4(d) rate filing per 154.204: 2015 System Map Update to be effective 6/1/2015.

Filed Date: 4/30/15.

Accession Number: 20150430-5275.

Comments Due: 5 p.m. ET 5/12/15.

Docket Numbers: RP15-942-000.

Applicants: Dominion Carolina Gas Transmission, LLC.

Description: Compliance filing per 154.203: Compliance new tariff (Baseline) to be effective 4/30/2015.

Filed Date: 4/30/15.

Accession Number: 20150430-5305.

Comments Due: 5 p.m. ET 5/12/15.

Docket Numbers: RP15-943-000.

Applicants: Dominion Transmission, Inc.

Description: Section 4(d) rate filing per 154.204: DTI—April 30, 2015 Negotiated Rate Agreements to be effective 5/1/2015.

Filed Date: 4/30/15.

Accession Number: 20150430-5308.

Comments Due: 5 p.m. ET 5/12/15.

Docket Numbers: RP15-944-000.

Applicants: Dominion Carolina Gas Transmission, LLC.

Description: Tariff Cancellation per 154.602: Cancellation of whole tariff to be effective 4/30/2015.

Filed Date: 4/30/15.

Accession Number: 20150430-5320.

Comments Due: 5 p.m. ET 5/12/15.

Docket Numbers: RP15-945-000.

Applicants: Enable Mississippi River Transmission, L.

Description: Section 4(d) rate filing per 154.204: Negotiated Rate Filing to Remove CES 5677 Eff 5-1-15 to be effective 5/1/2015.

Filed Date: 4/30/15.

Accession Number: 20150430-5404.

Comments Due: 5 p.m. ET 5/12/15.

Docket Numbers: RP15-946-000.

Applicants: Algonquin Gas Transmission, LLC.

Description: Section 4(d) rate filing per 154.204: US Gas 2015-05-01 Ramapo Release to be effective 5/1/2015.

Filed Date: 4/30/15.

Accession Number: 20150430-5424.

Comments Due: 5 p.m. ET 5/12/15.

Docket Numbers: RP15-947-000.

Applicants: Algonquin Gas Transmission, LLC.

Description: Section 4(d) rate filing per 154.204: Negotiated Rate—Nextera 510810 to be effective 5/1/2015.

Filed Date: 4/30/15.

Accession Number: 20150430-5486.

Comments Due: 5 p.m. ET 5/12/15.

Docket Numbers: RP15-948-000.

Applicants: Questar Overthrust Pipeline Company.

Description: Section 4(d) rate filing per 154.204: Capacity Reserved for Future Expansion to be effective 6/1/2015.

Filed Date: 4/30/15.

Accession Number: 20150430-5500.

Comments Due: 5 p.m. ET 5/12/15.

Docket Numbers: RP15-949-000.

Applicants: Midcontinent Express Pipeline LLC.

Description: Section 4(d) rate filing per 154.403(d)(2): Fuel Tracker 06/01/15 to be effective 6/1/2015.

Filed Date: 4/30/15.

Accession Number: 20150430-5514.

Comments Due: 5 p.m. ET 5/12/15.

Docket Numbers: RP15-950-000.

Applicants: Equitrans, L.P.

Description: Section 4(d) rate filing per 154.204: Negotiated Capacity Release Agreement- 5/01/2015 to be effective 5/1/2015.

Filed Date: 4/30/15.

Accession Number: 20150430-5550.

Comments Due: 5 p.m. ET 5/12/15.

Docket Numbers: RP15-951-000.

Applicants: Cheyenne Plains Gas Pipeline Company, L.

Description: Section 4(d) rate filing per 154.601: Name Change (Encore) to be effective 6/1/2015.

Filed Date: 4/30/15.

Accession Number: 20150430-5560.

Comments Due: 5 p.m. ET 5/12/15.

Docket Numbers: RP15-952-000.

Applicants: Tallgrass Interstate Gas Transmission, L.

Description: Section 4(d) rate filing per 154.204: Neg Rate 2015/4/30 DCP Midstream to be effective 5/1/2015.

Filed Date: 4/30/15.

Accession Number: 20150430-5589.

Comments Due: 5 p.m. ET 5/12/15.

Docket Numbers: RP15-953-000.

Applicants: Gulfstream Natural Gas System, L.L.C.

Description: Section 4(d) rate filing per 154.403(d)(2): 2015 GNGS TUP/SBA Filing to be effective 6/1/2015.

Filed Date: 5/1/15.

Accession Number: 20150501-5001.

Comments Due: 5 p.m. ET 5/13/15.

Docket Numbers: RP15-954-000.

Applicants: Tuscarora Gas Transmission Company.

Description: Section 4(d) rate filing per 154.204: TC Plus System Implementation to be effective 6/1/2015.

Filed Date: 5/1/15.

Accession Number: 20150501-5033.

Comments Due: 5 p.m. ET 5/13/15.

Docket Numbers: RP15-955-000.

Applicants: Gas Transmission Northwest LLC.

Description: Section 4(d) rate filing per 154.204: Implementation of TC Plus to be effective 6/1/2015.

Filed Date: 5/1/15.

Accession Number: 20150501-5037.

Comments Due: 5 p.m. ET 5/13/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-681-002.

Applicants: MIGC LLC.

Description: Compliance filing per 154.203: Amendment to Docket Number RP15-681-000 to be effective 4/24/2015.

Filed Date: 3/31/15.

Accession Number: 20150331-5446.

Comments Due: 5 p.m. ET 5/6/15.

Docket Numbers: RP15-914-001.

Applicants: Trailblazer Pipeline Company LLC.

Description: Tariff Amendment per 154.205(b): Amend Koch K in RP15-914 to be effective 5/1/2015.

Filed Date: 4/30/15.

Accession Number: 20150430-5004.

Comments Due: 5 p.m. ET 5/12/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2015.
Kimberly D. Bose,
Secretary.

[FR Doc. 2015-11281 Filed 5-8-15; 8:45 am]

BILLING CODE 6717-01-P